ENVIRONMENTAL PROTECTION AGENCY

[EPA-R04-OW-2014-0453; FRL 9913-57-OW]

Public Water System Supervision Program Revision for the State of Mississippi

AGENCY: U.S. Environmental Protection Agency (EPA).

ACTION: Notice of tentative approval.

SUMMARY: Notice is hereby given that the State of Mississippi is revising its approved Public Water System Supervision Program. Mississippi has adopted the following rules: Long Term 1 Enhanced Surface Water Treatment Rule, Long Term 2 Enhanced Surface Water Treatment Rule, Stage 2 Disinfectants and Disinfection Byproducts Rule, Lead and Copper Rule Short-Term Regulatory Revisions and Clarifications, and Ground Water Rule. The EPA has determined that Mississippi's rules are no less stringent than the corresponding Federal regulations. Therefore, the EPA is tentatively approving this revision to the State of Mississippi's Public Water System Supervision Program.

DATES: Any interested person may request a public hearing. A request for a public hearing must be submitted by August 11, 2014, to the Regional Administrator at the EPA Region 4 address shown below. The Regional Administrator may deny frivolous or insubstantial requests for a hearing. However, if a substantial request for a public hearing is made by August 11, 2014, a public hearing will be held. If no timely and appropriate request for a hearing is received and the Regional Administrator does not elect to hold a hearing on her own motion, this tentative approval shall become final and effective on August 11, 2014. Any request for a public hearing shall include the following information: The name, address and telephone number of the individual, organization or other entity requesting a hearing; a brief statement of the requesting person's interest in the Regional Administrator's determination and a brief statement of the information that the requesting person intends to submit at such hearing; and the signature of the individual making the request or, if the request is made on behalf of an organization or other entity, the signature of a responsible official of the organization or other entity.

ADDRESSES: All documents relating to this determination are available for inspection between the hours of 8:30 a.m. and 4:30 p.m., Monday through Friday, at the following offices: Mississippi State Department of Health, Bureau of Public Water Supply, 570 East Woodrow Wilson Drive, Jackson, Mississippi 39216; and the U.S. Environmental Protection Agency Region 4, Safe Drinking Water Branch, 61 Forsyth Street SW., Atlanta, Georgia 30303.

FOR FURTHER INFORMATION CONTACT: Dale Froneberger, EPA Region 4, Safe Drinking Water Branch, by mail at the Atlanta address given above, by telephone at (404) 562-9446, or by email at froneberger.dale@epa.gov.

EPA Analysis: On August 29, 2012, the State of Mississippi submitted a request that the Region approve a revision to the State's Safe Drinking Water Act Public Water System Supervision Program to include the authority to implement and enforce the Long Term 1 Enhanced Surface Water Treatment Rule, the Long Term 2 Enhanced Surface Water Treatment Rule, the Stage 2 Disinfectants and Disinfection Byproducts Rule, and the Lead and Copper Rule Short-Term Regulatory Revisions and Clarifications. On November 6, 2012, the State of Mississippi submitted a request that the Region approve a revision to the State's Safe Drinking Water Act Public Water System Supervision Program to include the authority to implement and enforce the Ground Water Rule. For the requests to be approved, the EPA must find the State Rules codified at 15 Miss. Admin. Code Pt. 20, Subpt. 72, Ch. 1., to be no less stringent than the Federal Rules codified at 40 CFR Part 141, Subpart T—Enhanced Filtration and Disinfection—Systems Serving Fewer Than 10,000 People; 40 CFR part 141, Subpart W—Enhanced Treatment for Cryptosporidium; 40 CFR part 141, Subpart L—Disinfectant Residuals, Disinfection Byproducts, and Disinfection Byproduct Precursors; 40 CFR Part 141, Subpart U—Initial Distribution System Evaluations; 40 CFR part 141, Subpart V—Stage 2 Disinfection Byproducts Requirements; 40 CFR part 141, Subpart I—Control of Lead and Copper; and 40 CFR Part 141, Subpart S—Ground Water Rule. The EPA reviewed the applications using the Federal statutory provisions (Section 1413 of the Safe Drinking Water Act), Federal regulations (at 40 CFR part 142), State regulations, rule crosswalks, and EPA regulatory guidance to determine whether the requests for revision are approvable. The EPA determined that the Mississippi regulations are no less stringent than the corresponding Federal regulations.

EPA Action: The EPA is tentatively approving this revision. If the EPA does not receive a timely and appropriate request for a hearing and the Regional Administrator does not elect to hold a hearing on her own motion, this tentative approval will become final and effective on August 11, 2014.

Authority: Section 1413 of the Safe Drinking Water Act, as amended (1996), and 40 CFR Part 142.

Dated: June 16, 2014.
Heather McTeer Toney,
Regional Administrator, Region 4.

[FR Doc. 2014-16259 Filed 7-10-14; 8:45 am]

BILLING CODE 6560-50-P